DEPARTMENT OF JUSTICE

Notice of Lodging Proposed Consent Decree

In accordance with Departmental Policy, 28 CFR 50.7, notice is hereby given that on March 2, 2012, a proposed Consent Decree was lodged with the United States District Court for the District of Massachusetts in United States v. Charles Johnson, et al., Civil Action No. 99-12465-EFH.

The proposed Consent Decree would resolve the United States' claims against the defendants Charles Johnson, Genelda Johnson, Francis Vaner Johnson, and the Johnson Cranberries Limited Partnership (the “defendants”) for violations of sections 301(a) and 404 of the Clean Water Act, 33 U.S.C. 1311(a) and 1344. The proposed Consent Decree requires the defendants to pay a civil penalty and implement restoration and mitigation measures to create and restore wetlands in southeastern Massachusetts and to restore and perform compensatory mitigation at three existing cranberry bogs known as the Log Swamp Bogs off Great Meadow Drive in Carver, Massachusetts. The proposed Consent Decree also requires the defendants to restore wetlands at a site near Cross Street in Carver, Massachusetts, and an area of Beaver Dam Brook, which is at the Cross Street site.

The Department of Justice will receive comments relating to the proposed Consent Decree for a period of thirty (30) days from the date of this publication. Comments should be addressed to Assistant United States Attorney George Henderson, 1 Courthouse Way, Suite 9200, Boston, Massachusetts, 02210, and should refer to United States v. Charles Johnson, et al., Civil Action No. 99-12465-EFH, DJ # 90-5-1-1-05720.

The proposed Consent Decree may be examined at the Clerk's Office, United States District Court for the District of Massachusetts, 1 Courthouse Way, Suite 2300, Boston, Massachusetts 02210, and at Region 1 of the Environmental Protection Agency, 5 Post Office Square, Suite 100, Boston, Massachusetts 02109-3912. In addition, the proposed Consent Decree may be examined electronically at http://www.justice.gov/enrd/Consent_Decrees.html.

Cherie L. Rogers,
Assistant Section Chief, Environmental Defense Section, Environment & Natural Resources Division.

[FR Doc. 2012-5505 Filed 3-6-12; 8:45 am]

BILLING CODE P